DEPARTMENT OF THE INTERIOR

Fish and Wildlife Service

50 CFR Part 86

RIN 1018-AF38

Boating Infrastructure Grant Program: Delay of Effective Date

AGENCY: Fish and Wildlife Service, Interior.

ACTION: Final rule; delay of effective date.

SUMMARY: In accordance with the memorandum of January 20, 2001, from the Assistant to the President and Chief of Staff, entitled “Regulatory Review Plan,” published in the Federal Register on January 24, 2001 (66 FR 7701), this document temporarily delays for 60 days the effective date of the rule entitled “Boating Infrastructure Grant Program,” published in the Federal Register on January 18, 2001 (66 FR 5282). This rule provides for the uniform administration of the national Boating Infrastructure Grant Program and survey authorized by Section 7404 of the Sportfishing and Boating Safety Act of 1998. Through this program, the U.S. Fish and Wildlife Service will provide funds to States to install or upgrade tie-up facilities for transient recreational boats 26 feet or more in length.

EFFECTIVE DATE: The effective date of the Boating Infrastructure Grant Program rule, adding 50 CFR part 86, published in the Federal Register on January 18, 2001, at 66 FR 5282, is delayed for 60 days, from February 20, 2001, to a new effective date of April 21, 2001.

FOR FURTHER INFORMATION CONTACT: Steve Farrell, Project Officer, U.S. Fish and Wildlife Service, Division of Federal Aid, 4401 North Fairfax Drive, Suite 140, Arlington, VA 22203; telephone (703) 358-2156; fax (703) 358-1705; email steve_farrell@fws.gov.

SUPPLEMENTARY INFORMATION: To the extent that 5 U.S.C. section 553 applies to this action, this action is exempt from notice and comment because it constitutes a rule of procedure under 5 U.S.C. section 553(b)(A). Alternatively, the Department's implementation of this action without opportunity for public comment, effective immediately upon publication today in the Federal Register, is based on the good cause exceptions in 5 U.S.C. sections 553(b)(3)(B) and 553(d)(3), in that seeking public comment is impractical, unnecessary and contrary to the public interest. The temporary 60-day delay in effective date is necessary to give Department officials the opportunity for further review and consideration of new regulations, consistent with the Assistant to the President's memorandum of January 20, 2001. Given the imminence of the effective date, seeking prior public comment on this temporary delay would have been impractical, as well as contrary to the public interest in the orderly promulgation and implementation of regulations.

Dated: February 2, 2001.
Timothy S. Elliott,
Acting Deputy Solicitor.

[FR Doc. 01-3224 Filed 2-7-01; 8:45 am]

BILLING CODE 4310-55-M